ELECTION ASSISTANCE COMMISSION

Sunshine Act Meetings

AGENCY: U.S. Election Assistance Commission.

ACTION: Notice of public meeting agenda.

SUMMARY: Public Meeting: U.S. Election Assistance Commission Standards Board Annual Meeting.

DATES: Thursday, June 17, 2021 1:30 p.m.-4:30 p.m. Eastern.

ADDRESSES: Virtual via Zoom.

The meeting is open to the public and will be livestreamed on the U.S. Election Assistance Commission YouTube Channel: https://www.youtube.com/channel/UCpN6i0g2rlF4ITWhwvBwwZw.

FOR FURTHER INFORMATION CONTACT: Kristen Muthig, Telephone: (202) 897-9285, Email: kmuthig@eac.gov.

SUPPLEMENTARY INFORMATION: Purpose: In accordance with the Government in the Sunshine Act (Sunshine Act), Public Law 94-409, as amended (5 U.S.C. 552b), the U.S. Election Assistance Commission (EAC) will conduct a virtual annual meeting of the EAC Standards Board to conduct regular business, discuss EAC updates and upcoming programs, and discuss the Voluntary Voting System Guidelines (VVSG) 2.0 next steps.

Agenda: The U.S. Election Assistance Commission (EAC) Standards Board will hold their 2021 Annual Meeting primarily to discuss next steps regarding the recently approved VVSG 2.0 Requirements, including the VVSG 2.0. lifecycle policy. This meeting will include a question and answer discussion between board members and EAC staff.

Board members will also review FACA Board membership guidelines and policies with EAC General Counsel and receive a general update about the EAC from the Executive Director including potential new and updated EAC programing for the coming year. Board members will also discuss and provide input on the National Institute of Standards and Technology's portion of the March 7, 2021 Executive Order on Promoting Access to Voting. The Board will also elect new members to the Executive Board Committee and consider amendments to the Bylaws.

Background: On February 10, 2021 the U.S. Election Assistance Commission (EAC) announced the adoption of the Voluntary Voting System Guidelines (VVSG) 2.0; the VVSG 2.0 is the fifth iteration of national level voting system standards. The Federal Election Commission published the first two sets of federal standards in 1990 and 2002. The EAC then adopted Version 1.0 of the VVSG on December 13, 2005. In an effort to update and improve version 1.0 of the VVSG, on March 31, 2015, the EAC commissioners unanimously approved VVSG 1.1.

The full agenda will be posted in advance on the EAC website: https://www.eac.gov.

Status: This meeting will be open to the public.

Amanda Joiner,
Associate Counsel, U.S. Election Assistance Commission.

[FR Doc. 2021-11508 Filed 5-26-21; 4:15 pm]

BILLING CODE 6820-KF-P